ENVIRONMENTAL PROTECTION AGENCY

[EPA-HQ-OW-2023-0329; FRL-10681-02-OW]

Issuance of a General Permit for Ocean Disposal of Marine Mammal and Sea Turtle Carcasses

AGENCY: Environmental Protection Agency (EPA).

ACTION: Notice of availability of final general permit.

SUMMARY: The Environmental Protection Agency (EPA) is re-issuing a general permit under the Marine Protection, Research and Sanctuaries Act (MPRSA) to authorize the transport of marine mammal and sea turtle carcasses from the United States and disposal of marine mammal and sea turtle carcasses in ocean waters. Permit re-issuance is necessary because the most recent permit expired on January 4, 2024. The EPA has not made substantive changes to the content of the recently expired general permit, though it has revised the scope and eligibility provisions, and general permittees will be able to resume permitted deposition of marine mammal carcasses in ocean waters pursuant to the re-issued permit terms.

DATES: This permit is effective on August 15, 2025 and expires on July 16, 2032.

ADDRESSES: The EPA established a docket for this action under Docket ID No. EPA-HQ-OW-2023-0329. All documents in the docket are listed on the https://www.regulations.gov website.

FOR FURTHER INFORMATION CONTACT: Cheryl Zulick, Freshwater and Marine Regulatory Branch; Oceans, Wetlands, and Communities Division, Mail Code 4504T, Environmental Protection Agency, 1200 Pennsylvania Avenue NW, Washington, DC 20460; telephone (202) 566-0583; email address: zulick.cheryl@epa.gov.

SUPPLEMENTARY INFORMATION:

I. General Information

A. Does this action apply to me?

The authorization in this general permit is available for any officer, employee, agent, department, agency, or instrumentality of Tribal, Federal, State or local unit of government, as well as any Marine Mammal Health and Stranding Response Program (MMHSRP) Stranding Agreement Holder, authorized members of the Sea Turtle Stranding and Salvage Network (STSSN), any Alaska Native, and members of the Makah Indian Tribe already authorized to take a marine mammal under the Endangered Species Act (ESA) or Marine Mammal Protection Act (MMPA), to transport from the United States and dispose of a marine mammal or sea turtle carcass in ocean waters.

B. Does this action require the disposal of marine mammal or sea turtle carcasses in ocean waters?

The general permit does not require ocean disposal of marine mammal or sea turtle carcasses; it merely authorizes ocean disposal when there is a need for disposition of such carcasses in ocean waters.

C. Why does the EPA permit ocean disposal of marine mammal and sea turtle carcasses?

The disposition of marine mammal and sea turtle carcasses in ocean waters is not excluded from the statutory definition of “dumping” or otherwise excluded from the scope of the Marine Protection, Research, and Sanctuaries Act (MPRSA), as such the transportation and disposition of any material, including carcasses, in ocean waters requires a permit under the MPRSA.

D. Why does this action require reporting?

Given the natural and unnatural deaths of marine mammals and sea turtles at sea, the disposal of marine mammal or sea turtle carcasses into the ocean is not anticipated to have any adverse effect on human health, fisheries resources, or marine ecosystems. Under the MPRSA regulations (40 CFR 224.1 and 224.2), each person dumping materials under a general permit must maintain records of the physical and chemical characteristics of the material dumped, the times and locations of the dumping, and any other information required as a condition of the permit. Dumping records must be reported to the EPA as required under the general permit. Additionally, to meet the United States' international treaty obligation for reporting under the London Convention, the EPA reports information about disposals under this general permit, and all other activities authorized under the MPRSA, annually to the International Maritime Organization, which provides administrative support on behalf of the treaty parties.

II. Federal Law and International Conventions

Except as excluded from the definition of dumping in the MPRSA (or otherwise excluded), the transportation for the purpose of dumping and dumping of any material in ocean waters requires authorization under the MPRSA. The MPRSA defines the term “dumping” broadly to encompass the disposition of material both for the purpose of disposal and for purposes other than disposal. The exclusion for purposes other than disposal is limited. Section 102(a)(A) of the MPRSA and implementing regulations at 40 CFR 227.14 through 227.16 direct the EPA, in issuing a permit and/or evaluating a permit application, to consider the need for ocean dumping as well as alternatives to ocean dumping.

The MPRSA implements the United States' obligations under the London Convention, the international treaty that protects the marine environment from the dumping of wastes and other matter into the ocean. Contracting Parties to the London Convention agreed to control dumping by implementing regulatory programs to assess the need for, and the potential impact of, dumping. The London Convention requires Contracting Parties to issue a permit for the dumping of wastes and other matter at sea, to prohibit dumping of some materials, and to report annually on all permits issued and monitoring activities undertaken.

For the at-sea disposition of marine mammal and sea turtle carcasses, the EPA establishes terms for MPRSA permit authorization, but other Federal laws also are implicated. The MPRSA general permit only purports to authorize the transportation for the purposes of disposal and disposal of marine mammal and sea turtle carcasses at sea; it does not itself provide for compliance with those other Federal laws.

The Marine Mammal Protection Act (MMPA), for example, regulates human interactions with “marine mammals”. The term marine mammal refers to any mammal that is morphologically adapted to the marine environment (including sea otters and members of the orders Sirenia, Pinnipedi, and Cetacea) or primarily inhabits the marine environment (e.g., polar bears). The Marine Turtle Conservation Act defines a sea turtle using the term “marine turtle”, which means any member of the taxonomic family Cheloniidae or Dermochelyidae.

The EPA does not anticipate that the disposition of marine mammal or sea turtle carcasses will occur except in circumstances, such as but not limited to beached and floating marine mammal or sea turtle carcasses and/or mass strandings of marine mammals or sea turtles resulting in mortalities. In those circumstances, disposition into the ocean may be necessary to protect human health, for example, when other disposal options are not available.

Before 2017, the EPA permitted the ocean disposal of cetacean (whales and related species) and pinniped (seals and related species) carcasses on a case-by-case basis, with MPRSA emergency permits. The EPA issued a general permit for the ocean disposal of marine mammal carcasses, which became effective in January 2017, to streamline MPRSA authorization and reduce burdens associated with case-by-case permitting. That general permit provided authorization from January 5, 2017, through January 4, 2024. Under the MPRSA, general permits may be issued for a period no longer than seven years. By re-issuing the general permit, the general permit's authorization to transport marine mammal and sea turtle carcasses for the purpose of disposal and to dispose marine mammal and sea turtle carcasses in ocean waters would be available for another seven-year period. From January 5, 2017, through January 4, 2024, the effective period for the prior MPRSA general permit for ocean disposal of marine mammal carcasses, the EPA authorized 32 marine mammal carcass disposals in ocean waters under the general permit. During that same period of time, the EPA authorized an additional 43 marine mammal carcass disposals using emergency permits. Re-issuance of the general permit avoids the need for emergency permitting for marine mammal or sea turtle carcasses when such emergencies arise.

Federal laws providing protection and conservation of marine mammals and sea turtles include the MMPA, the Endangered Species Act (ESA), the Marine Turtle Conservation Act, the Whaling Convention Act (WCA), the Fur Seal Act, and international conventions, including the Inter-American Convention for the Protection and Conservation of Sea Turtles, the International Convention for the Regulation of Whaling, which established the International Whaling Commission (IWC), and the Convention on International Trade in Endangered Species of Wild Fauna and Flora. Although this general permit applies only to marine mammal or sea turtle carcasses, certain international regulations are relevant. The United States is a party to the IWC and IWC regulations are self-implementing. The EPA is not the Federal agency charged with primary implementation of the United States' obligations under IWC regulations, but the MPRSA general permit is consistent with them.

IWC regulations recognize indigenous or aboriginal subsistence whaling. As relevant to subsistence whaling in the United States, the IWC sets catch limits for the Western Arctic stock of bowhead whales and Eastern North Pacific gray whales based upon the needs of subsistence fishing in Alaska villages and subsistence needs of the Makah Indian Tribe, respectively. The bowhead whale hunt is managed cooperatively by the National Marine Fisheries Service (NMFS) and the Alaska Eskimo Whaling Commission under the WCA and the MMPA. The gray whale hunt is managed cooperatively by NMFS and the Makah Tribal Council under the WCA and under a waiver of the MMPA (50 CFR 216.100 through 216.119). As such, any Alaska Native or member of the Makah Indian Tribe, who already may take a marine mammal under the MMPA and the ESA, is provided authority under this general permit should marine mammal carcasses need to be transported and disposed at sea. In re-issuing this general permit the EPA does not intend to change, alter, or otherwise affect any ceremonial, cultural, religious and/or subsistence practices involving marine mammals or sea turtles.

The other relevant Federal programs under the MMPA and the ESA are implemented by NMFS. MMHSRP Stranding Agreement Holders are provided authority to dispose of marine mammal carcasses in the ocean under this MPRSA general permit because Stranding Agreement Holders are authorized to take marine mammals subject to the provisions of the MMPA (16 U.S.C. 1361 et seq.) and the Fur Seal Act of 1966, as amended (16 U.S.C. 1151 et seq.). Members of the STSSN are provided authority to dispose of sea turtle carcasses under this MPRSA general permit because they are authorized to take sea turtles subject to the provisions of the ESA (16 U.S.C. 1531 et seq.), individual ESA Section 10 permits and/or the implementing regulations governing the taking, importing, and exporting of endangered and threatened marine species and designated critical habitat (50 CFR parts 222 through 226). As such, MMHSRP Stranding Agreement Holders and/or authorized members of the STSSN may have a need for ocean disposal should stranded marine mammals or sea turtles die.

III. Hazard to Public Safety and Navigation

A floating carcass near shore, for example, near a recreational beach or in a harbor or ship channel, may pose a risk to public safety before making land fall to the extent it might attract predators (e.g., sharks) to a recreation area or may pose a hazard to navigation. Per regulations promulgated by the U.S. Army Corps of Engineers (USACE), at 33 CFR 245.20, the determination of a navigation hazard is made jointly by the USACE and the U.S. Coast Guard (USCG). If such a determination is made, the USACE determines appropriate remedial action as described in USACE regulations at 33 CFR 245.25, which may include carcass removal. MPRSA authorization to transport a carcass for the purpose of ocean disposal would be available through this MPRSA general permit if the navigation hazard removal operation requires ocean disposal of such carcasses.

IV. Strandings and Beachings

Marine mammals and sea turtles that have died or have become sick or injured can reach the ocean shoreline by a variety of mechanisms. Possible mechanisms include: beaching, which involves a marine mammal or sea turtle carcass being driven ashore by currents or winds; stranding (single or multiple) of live marine mammal(s) or sea turtle(s) that subsequently die; and transport on the bow of vessels. In most stranding cases, the causes of marine mammal and sea turtle strandings are unknown, but some causes may include the following: disease, parasite infestation, harmful algal blooms, injuries due to ship strikes, fishery entanglements, pollution exposure, unusual weather or oceanographic events, trauma and starvation. While many marine mammals and sea turtles die every year, most carcasses never reach the shore; rather, the carcasses are consumed by other organisms or decompose sufficiently to sink to the ocean bottom where, depending upon size, the carcass may form the basis of an “organic fall” ecosystem.

Stranding or beaching of marine mammals, sea turtles and/or marine mammal or sea turtle carcasses may pose a risk to public health due to the potential to transfer communicable diseases (e.g., brucellosis, poxvirus and mycobacteriosis) to the exposed public. Marine carcasses present a significant disposal concern not only because of their size but also due to the frequency with which carcasses reach the shoreline. From 2006—2021, an average of 6,300 marine mammals stranded on United States shorelines per year (NMFS, 2024). A large majority of marine mammals that strand either are dead or die shortly after stranding (NMFS, 2022).

V. Disposal and Management Options

Generally, MMHSRP Stranding Agreement Holders and members of the STSSN are authorized to respond to marine mammals and sea turtles, respectively, that are found floating near shore or beached or stranded along the shore. While Stranding Agreement Holders and members of the STSSN do not and cannot respond to every stranded marine mammal and sea turtle, when they do respond and deem disposal necessary, the carcass must be disposed of properly. The MMHSRP has prepared a programmatic Environmental Impact Statement that describes, among other things, disposal and management options for carcasses of deceased marine mammals (NMFS, 2022).

For a dead marine mammal or sea turtle encountered, generally available methods for carcass disposal and management fall into two main categories: remove-from-the-environment and remain-in-the-environment. Remove-from-the-environment methods entail moving the carcass for disposal through controlled means and include disposing of a carcass in a landfill, or incinerating, rendering, or composting the carcass. Remain-in-the-environment methods involve leaving the marine mammal or sea turtle carcass in the environment to decompose naturally and include the following: allowing the carcass to remain and decompose in place; burying the carcass in place; and transporting the carcass to sea for ocean disposal. No single method is recommended for every carcass, and several factors are necessarily considered to determine the best disposal method for any particular carcass. Selection of a disposal method depends on factors such as number and size of the animals, carcass condition, the location, if chemicals were administered (including as antibiotics, sedatives and/or chemical euthanasia agents), availability of local resources and transportation logistics. Location considerations include coastal geography, currents, proximity to areas used extensively by the public, and Tribal, Federal, State, and/or local laws and regulations. While this Federal Register publication discusses other disposal methods briefly, the MPRSA general permit itself only concerns the disposal method to tow or otherwise transport the carcass of a marine mammal or sea turtle to sea for ocean disposal and the at-sea disposition of the remains.

A. Remove-from-the-Environment Methods

One benefit of removing the carcass from the environment is minimizing the likelihood of infectious disease transmission to humans, domesticated animals and wildlife. These methods either sequester the carcass or destroy the carcass and any associated pathogens and should be considered if the animal is suspected to have died from a disease that can easily spread to human or other animal populations. Remove-from-the-environment approaches can also be beneficial if the carcass contains toxic chemicals, such as certain chemical euthanasia agents, like pentobarbital. Some of these methods effectively remove these substances from the environment.

1. Disposal in a Licensed Landfill

The most widespread remove-from-the-environment method is disposal in a landfill. With this method, the carcass is removed from the beaching or stranding location and brought to a nearby landfill in a lined or contained transport vehicle. Disposal in a licensed landfill can minimize the likelihood and adverse effect of releasing any toxic substances contained in the carcass, including any euthanasia drugs, because the substances can be contained to one location. However, not all licensed landfills may be able to accept animals that have been euthanized with barbiturates. Therefore, authorities would contact local landfills to ensure that the landfill can accept carcasses that contain these drugs.

2. Incineration

Incineration is the process by which carcass tissues are disintegrated by burning. Incineration, particularly at an incineration facility, destroys the physical integrity of a carcass and the remaining ashes and hard parts (i.e., teeth, bones, etc.) are buried in a landfill. Disposal via incineration can prevent the spread of diseases, toxic materials and veterinary drugs contained in the carcass from entering the environment. Disposal via the incineration method may require preplanning and coordination with the local facility to fully understand the biological load that the incineration facility can manage. Incineration can be very expensive. Incineration facilities are not commonly found in all areas of the United States and the availability of commercial or municipal incinerators may be limited by the transportability of the carcass.

3. Rendering

Rendering is an activity in which the carcass is rapidly reduced and recycled into new products. Rendering uses all parts of the animal and often creates a protein by-product (e.g., protein meal) and a fat by-product (e.g., tallow and grease). Disposal via rendering exposes the carcass to high heat to eliminate pathogens and prevent the spread of diseases. However, if a carcass contains euthanasia drugs some facilities may not be able to accept or process the carcasses depending on the drug. Disposal via rendering requires preplanning and coordination with the rendering facility to fully understand its policies for disposal of animals that were chemically euthanized. Rendering may be very expensive. Rendering facilities are not commonly found in all areas of the United States and the availability of rendering facilities may be limited by the transportability of the carcass.

4. Composting

Composting marine mammal or sea turtle carcasses would involve bringing a carcass to a commercial composting facility (which may or may not require a State or local operating license) or to a site designated specifically for carcass composting or composting in a carcass digester. While composting is similar to disposal in a landfill, it offers the added benefit that the nutrients contained within the carcass are transformed into biologically available material. Disposal via composting can minimize the threat of releasing any pathogens or toxic substances contained in the carcass, including euthanasia drugs, because composted carcasses are contained to one location. However, if a carcass contains certain veterinary drugs, some facilities may not be able to accept or process the carcasses. Disposal via composting requires preplanning and coordination with the local facility to fully understand their policies for disposal of animals that were chemically euthanized and to ensure that all carcass compost will be used in accordance with local and State regulations on wildlife compost. Composting facilities are not commonly found in all areas of the United States and the availability of composting facilities may be limited by the transportability of the carcass.

B. Remain-in-the-Environment Methods

The remain-in-environment methods of disposal involve leaving marine mammal or sea turtle carcasses to naturally break down in the same, or similar, area in which it was found. Natural decomposition or burial in place may be used for both small and large marine mammal or sea turtle carcasses and is often the most preferred method if the carcass size or remoteness of the carcass location avoids logistical issues related to transportation. Remain-in-the-environment disposal methods should not be used for animals that were chemically euthanized with drugs known to cause secondary poisoning.

1. In-Place Decomposition

Allowing a carcass to remain in place to decompose may be an acceptable disposal method if the carcass does not pose a human exposure risk for public health and animal health or result in unacceptable odor or visual aesthetic impacts. In-place decomposition may also be the most practical when the carcass is located in an area that is remote or inaccessible to heavy equipment, thereby making other options, such as burying in place or moving to a different disposal location, infeasible.

2. In-Place Burial

In-place burial of a marine mammal or sea turtle carcass involves burying the carcass in the same or a similar location where the animal was found and may be used as a disposal method, especially when the carcass is located near population centers or near areas used for recreational activities. In-place burial involves excavating a trough above the high tide line, placing the carcass in the trench and covering the carcass with the excavated material. Burying the carcass creates a barrier that minimizes the smell and sight of the decaying carcass and reduces the likelihood of transmitting infectious diseases and attracting scavengers. Utilizing the in-place burial disposal method also depends on other factors such as the sediment substrate in the area (e.g., fine sediments versus rocks and boulders), the availability of appropriate excavation equipment, and ability to avoid potential environmental damage (e.g., destruction of dunes, beach grass, or nesting sites) caused by the transportation and operation of excavation equipment.

3. Ocean Disposal

The ocean disposal method is the only method to which the MPRSA general permit applies and imposes requirements. If a carcass cannot be moved to a land-based disposal location, left above ground to decay, or be buried in-place, then it would be appropriate to tow (or transport offshore via another method) and dispose of the carcass in the ocean, provided that an acceptable ocean disposal “site” or location can be identified. Ocean disposal of a marine mammal or sea turtle carcass entails selection of an appropriate location for the carcass to be released or sunk to prevent the carcass from drifting or washing back onshore with all reasonable effort, becoming a hazard to navigation, or damaging protected and sensitive habitats. The carcass may float due to gas formation from decomposition. To facilitate rapid sinking, opening the body cavity may be necessary. If the carcass is to be sunk rather than released at the disposal site, appropriate carcass preparation may be necessary (e.g., piercing the body cavity, attaching weights, cement barriers or chains) at the ocean disposal site so that the carcass will not return to shore or pose a hazard to navigation.

VI. Potential Consequences of Marine Mammal and Sea Turtle Carcass Disposal in the Ocean and Why a General Permit Is Appropriate

Leaving a marine mammal or sea turtle carcass in the environment to decompose, for example through in-place decomposition or burial or ocean disposal, provides a number of benefits to terrestrial, pelagic and benthic ecosystems (NMFS, 2022). Marine mammal and sea turtle carcasses that become stranded onshore and are left in-place to decompose or are buried are an integral part of coastal ecosystems providing a key source of food to scavengers and nutrients to the sediments, which may be used by algae and plants potentially increasing landscape heterogeneity (Bui 2009; Laidre et al., 2018; Quaggiotto et al., 2022; Schultz et al., 2022). Marine mammal and sea turtle carcasses that decompose while floating in ocean waters provide an energy-rich source of food for other marine animals, such as orcas and sharks (Leclerc et al., 2011; Quaggiotto et al., 2022; Schultz et al., 2022; Tucker et al., 2019; Whitehead and Reeves, 2005). Most marine mammal and sea turtle carcasses sink to the seafloor and decompose naturally (Quaggiotto et al., 2022; Schultz et al., 2022). Whale carcasses are a significant source of carrion in the marine environment, representing a huge food supply to scavengers and decomposers (Smith and Baco, 2003).

Whale falls, which occur naturally, are the most studied examples of marine mammal carcass decomposition on the seafloor (Smith et al., 2015). Whale falls are sites of intense and lasting enrichment of organic material and sulfides on the seafloor which attract and sustain diverse communities of vertebrate and invertebrate scavengers (Quaggiotto et al., 2022). Most deep-sea benthic ecosystems are organic-carbon limited and, in many cases, are dependent upon organic matter from surface waters (Smith and Baco, 2003). A sunken carcass provides a large load of organic carbon to the seafloor and enhances the structural complexity of the seafloor, provides habitats for chemosynthetic organisms and results in the establishment of specialized biological assemblages (Smith and Baco, 2003; Oldach et al., 2022; Smith et al., 2015). Over 20 macrofaunal species are known to exclusively inhabit the microenvironment formed by large organic falls and over 30 other macrofaunal species are known to inhabit these sites (Smith and Baco, 2003). The deep-sea benthic ecosystem response to whale falls has been the subject of scientific study and several stages of succession have been observed in the assemblages (Smith and Baco, 2003).

The duration of these stages of a whale fall varies greatly with carcass size, but generally occur as follows. The first stage is marked by the formation of bathyal scavenger assemblages that include hagfishes, sleeper sharks, crabs and amphipods. During the second stage, sediments surrounding the carcass, which have become enriched with organic carbon, become colonized by high densities of worms (e.g., Dorvilleidae, Chrysopetalidae). Once the consumption of soft tissue is complete, decomposition proceeds dominantly via anaerobic microbial digestion of bone lipids. The efflux of sulfides from the bones may, depending upon the size of the skeleton, provide for the formation of chemoautotrophic assemblages, which marks the third stage of succession. Chemoautotrophic assemblages typically consist of organisms such as heterotrophic bacteria, mussels, snails, worms, limpets and amphipods.

Water and sediment quality in the area adjacent to the fall may be negatively affected by at-sea disposals of marine mammal carcasses because a carcass could release contaminants into the water during decomposition (NMFS, 2022). Because contaminants would dilute rapidly in the water or break down over time in the tissues, the adverse impact would be minor and no different than what would happen naturally had the carcass sank to the seafloor and decomposed (NMFS, 2022).

The EPA has permitted numerous at-sea disposals of marine mammal carcasses under the MPRSA. In 2020, the EPA conducted biological, chemical and physical monitoring of a location offshore where several marine mammal carcasses had been sunk for disposal between 2009 and 2020, with the most recent disposal occurring six months prior to monitoring. The purpose of the survey was to determine any adverse impacts the decomposing whales may have caused to the immediate benthic community and surrounding area. Monitoring results from a recently disposed humpback whale carcass revealed that the carcass was reduced to whale bones with minimal whale tissue remaining within six months and found no measurable impact on sediment quality parameters (including total organic carbon, grain size and polychlorinated biphenyl concentration) from decomposition.

Less research is available regarding at-sea decomposition of sea turtle carcasses. When a sea turtle dies at sea, however, the carcass typically sinks until decomposition gases cause the body to bloat and float to the surface (Schultz et al., 2022). Partially submerged, sea turtle carcasses may drift as they are transported by winds and currents until it washes onshore or decomposes further and sinks to the seafloor (Santos et al., 2018). Once settled on the seafloor, sea turtle carcasses would decompose naturally (Schultz et al., 2022).

The EPA seeks to minimize the adverse impacts to the marine environment from the materials used when necessary to sink carcasses through a coordination between the general permittee and the regional EPA MPRSA Coordinator. Environmentally benign materials that have been used for sinking marine mammal carcasses include sandbags, jute rope, concrete and steel cables. These materials do not cause adverse impacts on water or sediment quality or harm the marine environment (NMFS, 2022). The small volume of sand used to sink carcasses does not cause an adverse effect on the seafloor substrate type. Burlap sandbags and jute rope (used to sink smaller carcasses), which are non-plastic materials that are biodegradable, do not persist in the marine environment or cause an ingestion hazard (Araya-Schmidt and Queirolo, 2019; Rautenbach et al., 2024; Unsworth et al., 2019; Wang et al., 2021; Zhang et al., 2015). When jute rope is used to tie sandbags to the animal, the shortest length possible is used to minimize the risk of entanglement by other marine organisms. Concrete keel blocks and steel cable used to sink larger carcasses are made from non-plastic, inert materials that are not anticipated to degrade the water quality of the seafloor or the water column (Melchers et al., 2022; Moffat et al., 2017; NMFS, 2022; Sun et al., 2022).

Generally, marine mammal and sea turtle strandings represent a minimum measure of actual at-sea mortality based on scientific studies that estimate that stranding events represent only 10-20% of total mortalities in open ocean environments (Epperly et al., 1996; Hart et al., 2006; Santos et al., 2018). Considering the available scientific information on marine mammal and sea turtle strandings, marine mammal and sea turtle in situ decomposition and organic falls, the EPA finds that the potential adverse effects of ocean disposal of marine mammal or sea turtle carcasses under the MPRSA permit are minimal for the following reasons: (1) except in rare instances, most marine mammal or sea turtle carcasses would sink to and decompose on the ocean floor rather than wash ashore; (2) the formation of an organic fall is a naturally occurring phenomenon with no known adverse environmental impacts; (3) the materials used for sinking carcasses are chosen to minimize adverse environmental impacts; (4) the site selection for sinking carcasses requires consultation to avoid adverse environmental impacts; and (5) transporting a marine mammal or sea turtle carcass to sea for ocean disposal, when other disposal methods are not viable, presents a minimal perturbation to a naturally occurring phenomenon.

The EPA's findings are consistent with the statutory considerations applicable to permit issuance under the MPRSA because: (1) the general permit requires consideration of the need for ocean disposal and consideration of land-based alternatives; (2) marine mammal and sea turtle carcass disposals will not cause a significant adverse effect on human health and welfare, fisheries resources, marine ecosystems, or alternate uses of the ocean; (3) marine mammal and sea turtle carcass disposals will not cause any persistent or permanent adverse effects; and (4) the release and disposal locations will be appropriately considered to protect human health and to minimize interference with navigation.

VII. Statutory and Regulatory Background

MPRSA Section 101, 33 U.S.C. 1411, prohibits the unpermitted transportation of any material for the purpose of dumping it into ocean waters. MPRSA Section 102(a)(1), 33 U.S.C. 1412(a), authorizes the EPA, after notice and the opportunity for public hearings, to issue MPRSA permits. Section 102(a) of the MPRSA directs the EPA, in issuing a permit and/or evaluating a permit application, to consider, among other things, the need for ocean dumping as well as alternatives to ocean dumping. MPRSA Section 104(c), 33 U.S.C. 1414(c), authorizes the EPA to issue general permits for the transportation for the purpose of dumping, dumping, or both for specified materials, or classes of materials, it determines will have a minimal adverse environmental impact. The EPA regulations explain that the EPA may issue general permits for the dumping of materials that have a minimal adverse environmental impact and are generally disposed of in small quantities, or emergency permits for specific classes of materials that must be disposed of in emergency situations (40 CFR 220.3(a) and (c)). The towing or other method of transportation to move a marine mammal or sea turtle carcass offshore by any person for disposal at sea constitutes transportation of material for the purpose of dumping in ocean waters, and thus is subject to the MPRSA. Because the material to be disposed will consist of the carcass or carcasses, and in some cases environmentally benign material used to sink the carcass or carcasses, there will be no materials present that are prohibited by 40 CFR 227.5.

VIII. Consideration of Subsistence Uses Authorized Under the MMPA

In re-issuing this general permit, the EPA attempts, to the maximum extent allowable, to avoid interference with long-standing subsistence uses and traditional cultural practice of Alaska natives and the Makah Indian Tribe engaged in ceremonial and subsistence practices. Recognition of subsistence uses is incorporated into the MMPA and the EPA derived permit terms for such users consistent with the MMPA's designed recognition of those uses. In re-issuing this general permit, the EPA does not intend to change, alter or otherwise affect subsistence uses of marine mammals by Alaska Natives and members of the Makah Indian Tribe.

The general permit does not in any way require ocean disposal of marine mammal carcasses. Instead, the permit merely provides the required Federal permit authorization of ocean disposal of marine mammal carcasses when there is a need for disposition of carcasses at sea. Subsistence activities of Alaska Natives and members of the Makah Indian Tribe that fall outside the scope of ocean disposition of carcasses may include: hunting, harvesting, salvaging, hauling, dressing, butchering, distribution, and consumption of marine mammals (or any other species used for subsistence purposes); the transportation and disposition of marine mammal carcasses at inland locations, such as in whale boneyards or in inland waters (i.e., waters that are landward of the baseline of the territorial sea, such as rivers, lakes, and certain enclosed bays or harbors); or leaving marine mammal carcasses to decompose in place, where there is no transportation by vessel or other vehicle for the purpose of ocean disposal. The purpose of this general permit is to expedite the required MPRSA permit authorizations the EPA manages for the ocean disposal of marine mammal carcasses.

A. Consideration of Alaska Natives Engaged in Subsistence Uses

Alaska Natives engaged in subsistence uses are not required to, but may, transport and dispose of marine mammal carcasses in ocean waters. The EPA developed Section B of the general permit taking into consideration the subsistence use patterns and needs of Alaska Native persons. For purposes of this general permit, the EPA uses the term “Alaska Native” with reference to the MMPA exemption specifically, the exemption for “any Indian, Aleut, or Eskimo who resides in Alaska and who dwells on the coast of the North Pacific Ocean or the Arctic Ocean” who takes a marine mammal “for subsistence purposes” or “for purposes of creating and selling authentic native articles of handicrafts and clothing” and provided such taking is not in a wasteful manner (16 U.S.C. 1371(b)).

Section B of the general permit provides separate terms for authorized ocean disposal of marine mammal carcasses by an Alaska Native engaged in subsistence uses for two reasons. First, marine mammals are comparatively abundant and widely distributed throughout coastal Alaska, and Alaska Natives depend upon these natural resources for many customary and traditional uses. Collectively, the customary and traditional uses (e.g., food, clothing) are referred to as “subsistence uses.” Alaska Natives have been using marine mammals for subsistence for thousands of years. The United States recognizes the importance of Alaska Native subsistence uses under the MMPA, which expressly exempts Alaska Natives engaged in subsistence uses from the general prohibition on “taking” marine mammals under certain circumstances (16 U.S.C. 1371(b)). The MPRSA, by comparison, does not include a similar exemption for the transport and disposal in ocean waters by Alaska Natives when marine mammal carcasses (or parts thereof) have no further use for subsistence purposes. Section B of the general permit accommodates the absence of an MPRSA exemption similar to the MMPA exemption by facilitating authorization of ocean disposal of marine mammal carcasses by Alaska Natives, including through annual rather than episodic reporting. Second, many coastal communities of Alaska Natives who engage in subsistence uses are located in remote locations and thus face a time-critical public safety issue, for example, when a marine mammal carcass washes ashore near a village or town, or a marine mammal is harvested or salvaged and the carcass is hauled ashore near a village or town. Such carcasses may attract bears or other scavenger animals, which may increase the risk of human injury or mortality. For these reasons, there are specific provisions in the general permit for Alaska Natives engaged in subsistence activities to expedite the transport and disposal of marine mammals in ocean waters, if necessary.

With these considerations in mind, the EPA's re-issuance of the Alaska Native-specific permit conditions (see Section B) is intended, to the maximum extent allowable, to avoid unnecessary interference with long-standing subsistence uses and traditional cultural practices, and to recognize the unique circumstances of Alaska Natives engaged in subsistence uses. In re-issuing this general permit, the EPA does not intend to change, alter, or otherwise affect subsistence uses of marine mammals by Alaska Natives engaged in subsistence uses. Section B sets forth requirements designed to address these considerations while also complying with international treaties, the MPRSA, and the EPA's regulations at 40 CFR subchapter H. The primary differences between Sections A and B relate to Federal agency concurrence, distance from land requirements for ocean disposal, and reporting requirements.

B. Consideration of Members of the Makah Indian Tribe

Members of the Makah Indian Tribe engaged in ceremonial and subsistence uses of marine mammals may, but are not required to, transport and dispose of marine mammal carcasses in ocean waters. For purposes of this general permit, Section C of the general permit authorizes ocean disposal of marine mammal carcasses by any member of the Makah Indian Tribe engaged in subsistence uses. The Makah Indian Reservation occupies a reservation located on the remote, northwestern tip of Washington State where the Strait of Juan de Fuca meets the Pacific Ocean. For thousands of years, the Makah Indian Tribe has depended on resources from the ocean for their subsistence, culture, and economy and hunting and harvesting whales, seals, other marine mammals, and marine fish have always been integral and essential to the Makah Indian Tribe.

The United States recognizes the importance of ceremonial and subsistence uses of marine mammals by the Makah Indian Tribe through the Treaty of Neah Bay. Through the Treaty of Neah Bay, the United States recognizes sovereign rights of the Makah Indian Tribe to natural resources and cultural practices, including the right to hunt and harvest whales, seals, other marine mammals, and marine fish, as well as the Makah Indian Reservation. By regulation, the Secretary of Commerce has issued a conditional waiver from the MMPA moratorium on the take of Eastern North Pacific gray whales for enrolled members of the Makah Indian Tribe (50 CFR 216.10 through 216.119; 16 U.S.C. 1371(a)(3)(A)). By comparison, the MPRSA does not provide the EPA with authority to waive permitting requirements for the transport and disposal in ocean waters when marine mammal carcasses (or parts thereof) have no further subsistence or ceremonial use. For reasons similar to the accommodations for Alaska Natives, the EPA includes Makah Indian Tribe-specific permit conditions (see Section C) to minimize interference with long-standing marine mammal subsistence uses and traditional cultural practices of the Makah Indian Tribe.

Though EPA did not propose the Makah Indian Tribe-specific provisions, the inclusion of these provisions in this final general permit merely recognizes the existing MMPA waiver of the Eastern North Pacific gray whale moratorium applicable to the Makah Indian Tribe. The difference between Sections A and C (for the Makah Indian Tribe) relates to one aspect of prior consultation. Section C of the general permit does not require that members of the Makah Indian Tribe conduct prior consultation with a Stranding Agreement Holder for the disposal of carcasses (or parts thereof) that have no further subsistence or ceremonial use. In addition, Section C includes conditions required as part of the Clean Water Act section 401 water quality certification process, as explained below, regardless of how unlikely it may be that a member of the Makah Indian Tribe might transport carcasses (or parts thereof) to the waters where those additional conditions apply.

IX. Discussion

Considering the information presented in the previous sections, the EPA determines that the potential adverse environmental impacts of marine mammal or sea turtle carcass disposals at sea, in compliance with the permit's terms, are minimal and that marine mammal and sea turtle carcasses often must be disposed of to mitigate threats to public safety (e.g., recreational uses in nearby waters) as well as risks of navigation hazards. As such, issuance of a general permit for the transportation for the purpose of disposal and the ocean disposal of marine mammal and sea turtle carcasses is appropriate under the MPRSA.

Authorization under Section A of the general permit is available to Tribal, Federal, State, and local government officials and employees acting in the course of official duties and to MMHSRP Stranding Agreement Holders and members of the STSSN. Section A authorizes such persons to transport and dispose of marine mammal or sea turtle carcasses in ocean waters. Section A requires that each such permittee consult with the MMHSRP of NMFS or the STSSN—and recommends that each such general permittee consults with the applicable USCG District Office—prior to initiating any ocean disposal activities with respect to a marine mammal or sea turtle carcass. Permittees authorized under Section A would need to consult with and obtain concurrence from the applicable EPA Regional Office on selection of an ocean disposal site, which must be at a location three miles seaward of the mean lower low water line (ordinary low water mark) along the coast or a “closing line” across river mouths and openings of bays as demarcated on nautical charts. Disposal sites in the ocean waters of Puget Sound are not subject to the distance-from-shore restriction; however, permittees would need to consult with and obtain concurrence from EPA Region 10 on selection of the site. The EPA requested certification under Clean Water Act section 401 that discharges under this permit will comply with applicable provisions of Clean Water Act sections 301, 302, 306 and 307 from the State of Washington and from Tribes in the Puget Sound area for disposals in the ocean waters of Puget Sound that are not subject to the permit's distance-from-shore restriction. Only one entity, the Port Gamble S'Klallam Tribe, required additional conditions as part of the certification process, and those conditions are included in the permit. All permittees authorized under Section A also need to submit a report to the applicable EPA Regional Office on the ocean disposal activities after the disposal.

Alaska Natives engaged in subsistence uses are not required to, but may, transport and dispose of marine mammal carcasses in ocean waters. When disposal in ocean waters is the selected disposal approach, Section B of the general permit authorizes any Alaska Native engaged in subsistence uses to transport and dispose of a marine mammal carcass in ocean waters. Under Section B, the Alaska Native general permittee selects an ocean disposal site sufficiently far offshore so that currents and winds are not expected to return the carcass to shore, and the carcass is not expected to pose a hazard to navigation and afterwards submits, on an annual basis, a report to EPA Region 10 on ocean disposal activities conducted in the prior calendar year. Section B does not require a statement of need for selecting ocean disposal nor does it specify a distance requirement. The EPA requested certification under Clean Water Act section 401 that discharges under Section B of this permit will comply with applicable provisions of Clean Water Act Sections 301, 302, 306 and 307 from the State of Alaska for disposals in ocean waters by any Alaska Native at any distance from shore. The State of Alaska certified discharges associated with this general permit under Clean Water Act section 401 without additional conditions.

X. Response to Comments Received

The EPA published notice of the proposed re-issuance of the general permit on October 8, 2024, and invited public comment for a 60-day period that concluded on December 9, 2024. The EPA received four comment letters from private citizens, a non-governmental organization and an Alaska Native Village. All comments received supported re-issuance of this general permit and agreed with the EPA's assessment that the activities would not result in long-lasting adverse impacts. The EPA has developed a Response to Comments documents explaining the EPA's consideration of public comments received during the comment period. In response to the comments received, the EPA modified the final permit with expansions in the scope of eligibility and clarifications, including to improved language clarity and organization.

XI. Statutory and Executive Order Reviews

A. Paperwork Reduction Act

The information collections under this general permit are covered under the MPRSA Information Collection Request (ICR) that has been approved by the Office of Management and Budget (OMB) under the Paperwork Reduction Act. The ICR document that the EPA prepared for all MPRSA activities has been assigned EPA ICR number 0824.08.

Under section 104(e) of the MPRSA, 33 U.S.C. 1414(e) and implementing regulations at 40 CFR 221.1 and 221.2, applicants for an MPRSA permit must provide information that the EPA determines is necessary to review and evaluate such application, for example, to ensure that ocean dumping is appropriately regulated and will not harm human health or the marine environment. To meet United States' reporting obligation under the London Convention, the EPA reports some of this information in the annual United States ocean dumping report, which is transmitted to the International Maritime Organization for treaty compliance purposes.

Respondents/affected entities: Any officer, employee, agent, department, agency, or instrumentality of Tribal, Federal, State, or local unit of government, as well as any MMHSRP Stranding Agreement Holder and/or authorized member of the STSSN, who disposes of a marine mammal or sea turtle carcass in ocean waters and any Alaska Natives or members of the Makah Indian Tribe engaged in subsistence uses who disposes of a marine mammal carcass in ocean waters will be affected by this general permit. Under this general permit, respondents do not need to request permit authorization because the general permit authorizes ocean disposal of a marine mammal or sea turtle carcass by an eligible person.

Respondent's obligation to respond: Pursuant to regulations implementing section 104(e) of the MPRSA, 33 U.S.C. 1414(e), at 40 CFR 221.1 through 221.2, the EPA requires all ocean dumping permittees to supply specified reporting information.

B. Executive Order 13175: Consultation and Coordination With Indian Tribal Governments

This MPRSA permitting action has Tribal implications, but the general permit will neither impose substantial direct compliance costs on federally recognized Tribal governments, nor preempt Tribal law. The general permit has Tribal implications because it may affect traditional practices of some Tribes.

The EPA consulted with Tribal officials under the EPA Policy on Consultation and Coordination with Indian Tribes early in the process of reviewing the previous general permit and preparing to re-issue this general permit to allow them to have meaningful and timely input into its development.

On February 14, 2023, the EPA emailed a consultation notification letter with a consultation and coordination plan to all 574 federally recognized Tribes, notifying them of this upcoming action and inviting Tribal leaders and designated consultation representatives to participate in the Tribal consultation and coordination process.

In early 2024, when the EPA was considering expanding the scope of the general permit to include ocean waters of Puget Sound, it held an additional Tribal coordination and consultation period for the Tribes in the Puget Sound area that could be affected by any such expansion of the permit's scope.

On April 2, 2024, the EPA emailed a consultation notification letter with a consultation and coordination plan to federally recognized Tribes in the Puget Sound area, notifying the Tribes of the proposal to modify the scope of the permit, and inviting Tribal leaders and designated consultation representatives to participate in the Tribal consultation and coordination process. A summary of the Tribal consultation and coordination effort, the Tribal input received, and how the EPA considered the input received may be found in the docket for this action (Docket ID No. EPA-HQ-OW-2023-0329).

XII. References

Araya Schmidt, T., & Queirolo, D. (2019). Breaking strength evaluation of biodegradable twines to reduce ghost fishing in the pot and trap fisheries of Chile. Latin American Journal of Aquatic Research, 47(1), 201-205. https://doi.org/10.3856/vol47-issue1-fulltext-24.

Bui, A. (2009). Beach burial of cetaceans: implications for conservation, and public health and safety.

Epperly, S. P., Braun, J., Chester, A. J., Cross, F. A., Merriner, J. v., Tester, P. A., & Churchill, J. H. (1996). Beach Strandings as an Indicator of At-Sea Mortality of Sea Turtles. Bulletin of Marine Science, 59(2), 289-297.

Hart, K. M., Mooreside, P., & Crowder, L. B. (2006). Interpreting the spatio-temporal patterns of sea turtle strandings: Going with the flow. Biological Conservation, 129(2), 283-290. https://doi.org/10.1016/j.biocon.2005.10.047.

Laidre, K. L., Stirling, I., Estes, J. A., Kochnev, A., & Roberts, J. (2018). Historical and potential future importance of large whales as food for polar bears. Frontiers in Ecology and the Environment, 16(9), 515-524. https://doi.org/10.1002/fee.1963.

Leclerc, L.-M., Lydersen, C., Haug, T., A. Glover, K., T. Fisk, A., & M. Kovacs, K. (2011). Greenland sharks (Somniosus microcephalus) scavenge offal from minke (Balaenoptera acutorostrata) whaling operations in Svalbard (Norway). Polar Research, 30(1), 7342. https://doi.org/10.3402/polar.v30i0.7342.

Melchers, R. E., & Tan, M. Y. (2022). Predicting the lifespan and corrosion behaviour of decommissioned oil and gas metallic infrastructure in the ocean. National Decommissioning Research Initiative: Newcastle, Australia).

Moffatt, E. G., Thomas, M. D. A., & Fahim, A. (2017). Performance of high-volume fly ash concrete in marine environment. Cement and Concrete Research, 102, 127-135. https://doi.org/10.1016/j.cemconres.2017.09.008.

Oldach, E., Killeen, H., Shukla, P., Brauer, E., Carter, N., Fields, J., Thomsen, A., Cooper, C., Mellinger, L., Wang, K., Hendrickson, C., Neumann, A., Bøving, P. S., & Fangue, N. (2022). Managed and unmanaged whale mortality in the California Current Ecosystem. Marine Policy, 140, 105039. https://doi.org/10.1016/j.marpol.2022.105039.

Quaggiotto, M.-M., Sánchez-Zapata, J. A., Bailey, D. M., Payo-Payo, A., Navarro, J., Brownlow, A., Deaville, R., Lambertucci, S. A., Selva, N., Cortés-Avizanda, A., Hiraldo, F., Donázar, J. A., & Moleón, M. (2022). Past, present and future of the ecosystem services provided by cetacean carcasses. Ecosystem Services, 54, 101406. https://doi.org/10.1016/j.ecoser.2022.101406.

Rautenbach, S. A., Pieraccini, R., Nebel, K., & Engelen, A. H. (2024). Marine biodegradation of natural potential carrier substrates for seagrass restoration. Marine Ecology. https://doi.org/10.1111/maec.12813.

Santos, B. S., Friedrichs, M. A. M., Rose, S. A., Barco, S. G., & Kaplan, D. M. (2018). Likely locations of sea turtle stranding mortality using experimentally-calibrated, time and space-specific drift models. Biological Conservation, 226, 127-143. https://doi.org/10.1016/j.biocon.2018.06.029.

Schultz, E. A., Cook, M., Nero, R. W., Caillouet, R. J., Reneker, J. L., Barbour, J. E., Wang, Z., & Stacy, B. A. (2022). Point of No Return: Determining Depth at Which Sea Turtle Carcasses Experience Constant Submergence. Chelonian Conservation and Biology, 21(1). https://doi.org/10.2744/CCB-1518.1.

Smith, C. R., & Baco, A. R. (2003). Ecology of whale falls at the deep-sea floor. In Oceanography and marine biology (pp. 319-333). CRC Press.

Smith, C. R., Glover, A. G., Treude, T., Higgs, N. D., & Amon, D. J. (2015). Whale-Fall Ecosystems: Recent Insights into Ecology, Paleoecology, and Evolution. Annual Review of Marine Science, 7(1), 571-596. https://doi.org/10.1146/annurev-marine-010213-135144.

Sun, D., Cao, Z., Huang, C., Wu, K., de Schutter, G., & Zhang, L. (2022). Degradation of concrete in marine environment under coupled chloride and sulfate attack: A numerical and experimental study. Case Studies in Construction Materials, 17, e01218. https://doi.org/10.1016/j.cscm.2022.e01218.

Tucker, J. P., Vercoe, B., Santos, I. R., Dujmovic, M., & Butcher, P. A. (2019). Whale carcass scavenging by sharks. Global Ecology and Conservation, 19, e00655. https://doi.org/10.1016/j.gecco.2019.e00655.

United States National Marine Fisheries Service (NMFS) Office of Protected Resources—Manley, S., Onens, P., Wilkin, S., Fauquier, D., Hall, L., Rowles, T., ... & Damon-Randall, K. (2022). Programmatic Environmental Impact Statement for the Marine Mammal Health and Stranding Response Program: Final Programmatic Environmental Impact Statement. Retrieved from https://repository.library.noaa.gov/view/noaa/47576.

United States National Marine Fisheries Service (NMFS) Office of Protected Resources—Onens, P., Wilkin, S., Fauquier, D., Spradlin, T., Manley, S., Wong, A., ... & Davis, N. (2024). 2020 and 2021 Combined Report of Marine Mammal Strandings in the United States. Retrieved from https://repository.library.noaa.gov/view/noaa/60580.

Unsworth, R. K. F., Bertelli, C. M., Cullen-Unsworth, L. C., Esteban, N., Jones, B. L., Lilley, R., Lowe, C., Nuuttila, H. K., & Rees, S. C. (2019). Sowing the Seeds of Seagrass Recovery Using Hessian Bags. Frontiers in Ecology and Evolution, 7. https://doi.org/10.3389/fevo.2019.00311.

Wang, Y., Zhou, C., Xu, L., Wan, R., Shi, J., Wang, X., Tang, H., Wang, L., Yu, W., & Wang, K. (2021). Degradability evaluation for natural material fibre used on fish aggregation devices (FADs) in tuna purse seine fishery. Aquaculture and Fisheries, 6(4), 376-381. https://doi.org/10.1016/j.aaf.2020.06.014.

Whitehead, H., & Reeves, R. (2005). Killer whales and whaling: the scavenging hypothesis. Biology Letters, 1(4), 415-418. https://doi.org/10.1098/rsbl.2005.0348.

Zhang, P.-D., Fang, C., Liu, J., Xu, Q., Li, W.-T., & Liu, Y.-S. (2015). An effective seed protection method for planting Zostera marina (eelgrass) seeds: Implications for their large-scale restoration. Marine Pollution Bulletin, 95(1), 89-99. https://doi.org/10.1016/j.marpolbul.2015.04.036.

Stacey M. Jensen,
Director, Oceans, Wetlands, and Communities Division.

For the reasons stated above, the EPA re-issues the general permit for the transportation and ocean disposal of marine mammal and sea turtle carcasses as follows:

General Permit for the Transportation and Ocean Disposal of Marine Mammal and Sea Turtle Carcasses

A. General Requirements for Governmental Entities and Stranding Agreement Holders

Except as provided in Sections B and C below, any officer, employee, agent, department, agency, or instrumentality of Tribal, Federal, State, or local unit of government, any Marine Mammal Health and Stranding Response Program Stranding Agreement Holder, and any authorized member of the Sea Turtle Stranding and Salvage Network who already may take a marine mammal or sea turtle under the Endangered Species Act or Marine Mammal Protection Act, is hereby granted a general permit to transport for the purpose of disposal and dispose of marine mammal and sea turtle carcasses in ocean waters subject to the following conditions:

1. The permittee shall consult with a Stranding Agreement Holder of the National Marine Fisheries Service or an authorized member of the Sea Turtle Stranding and Salvage Network prior to initiating any disposal activities, unless the permittee is an Agreement Holder or Network member, respectively. Points of contact for Stranding Agreement Holders and members of the Sea Turtle Stranding and Salvage Network are available at https://www.epa.gov/marine-protection-permitting/ocean-disposal-marine-mammal-and-sea-turtle-carcasses.

2. The permittee shall consult with and obtain written concurrence (via email or letter) from the applicable EPA Regional Office on ocean disposal site selection. A disposal site must be at a location three miles seaward of the mean lower low water line (ordinary low water mark) along the coast or “closing lines” across river mouths and openings of bays as demarcated on nautical charts. Disposal sites in the ocean waters of Puget Sound are not subject to the distance-from-shore restrictions, however permittees would need to consult with and obtain concurrence from EPA Region 10 on selection of the site. Because the presence of a marine mammal or sea turtle carcass near human habitation or recreation areas may pose a time-critical public safety issue, the permittee may obtain concurrence via telephone from the applicable EPA Regional Office provided that the permittee subsequently obtains written concurrence (via email or letter). Points of contact at the EPA are available at https://www.epa.gov/marine-protection-permitting/ocean-disposal-marine-mammal-and-sea-turtle-carcasses.

3. If a determination is made that the carcass must be sunk, rather than released at the disposal site, the transportation and disposal of materials necessary to ensure the sinking of the carcass are also authorized for ocean dumping under this general permit. When materials are to be used to sink the carcass, the permittee must first consult with and obtain written concurrence (via email or letter) from the applicable EPA Regional Office on the selection of materials. Any materials described in 40 CFR 227.5 (prohibited materials) or 40 CFR 227.6 (constituents prohibited as other than trace amounts) shall not be used. The transportation and dumping of any materials other than the materials necessary to ensure the sinking of the carcass are not authorized under this general permit and constitute a violation of the MPRSA. Because the presence of a marine mammal or sea turtle carcass near human habitation or recreation areas may pose a time-critical public safety issue, the permittee may obtain concurrence via telephone from the applicable EPA Regional Office provided that the permittee subsequently obtains written concurrence (via email or letter).

4. The permittee shall submit a report on the ocean disposal activities authorized by this general permit to the applicable EPA Regional Office within 30 days after carcass disposal. This report shall include:

a. A description of the carcass(es) disposed (e.g., species, approximate length, general condition, floating or not);

b. The date and time of the disposal, the latitude and longitude of the ocean disposal site, and the geodetic datum associated with the coordinates of the disposal site. Latitude and longitude of the disposal site shall be reported at the highest degree of accuracy available on board the vessel that transported the carcass (e.g., onboard geographic position system technology);

c. The name, title, affiliation, and contact information of the person in charge of the disposal operation and the person in charge of the vessel or vehicle that transported the carcass (if different than the person in charge of the disposal); and

d. A statement of need and rationale for selecting ocean disposal rather than other disposal options.

5. The permittee shall immediately notify the EPA of any violation of any condition of this general permit.

6. Additional permit conditions as required by the Port Gamble S'Klallam Tribe's Clean Water Act Section 401 certification for transportation and disposal of marine mammal and sea turtle carcasses waters within the boundaries of the Port Gamble S'Klallam Reservation and trust lands:

a. Entities covered under this general permit shall use best management practices for sediment and turbidity control.

b. No discharge covered under the general permit shall cause exceedances of port Gamble S'Klallam Surface Water Quality Standards narrative or number criteria.

c. No carcasses shall be disposed of near shellfish beds used by Tribal fishers.

d. No activities under this general permit may negatively impact Tribal resources.

e. The Natural Resources Department shall be notified within 24 hours of any accidents, equipment failures, or unexpected impacts resulting from activities associated with this general permit.

B. Requirements for Any Alaska Native Engaged in Subsistence Uses

Notwithstanding Section A, any Alaska Native engaged in subsistence uses is hereby granted a general permit to transport for the purpose of disposal and dispose of marine mammal carcasses in ocean waters subject to the following conditions:

1. The permittee shall submit a report (via email or letter) on all disposal activities authorized by this general permit that the permittee has conducted in the prior calendar year. Reports shall be submitted to EPA Region 10 within 30 days of the end of the calendar year. Contact information for EPA Region 10 is available at https://www.epa.gov/marine-protection-permitting/ocean-disposal-marine-mammal-and-sea-turtle-carcasses. This report shall include:

a. The number and type of carcasses disposed;

b. A description of the general vicinity in which the carcasses were disposed; and

c. The name and contact information of the permittee.

2. Where ocean disposal is the selected approach, marine mammal carcasses must be towed or otherwise transported to a site offshore where, based on available information, which may include local or traditional knowledge, currents and winds are not expected to return the carcass to shore and the carcass is not expected to pose a hazard to navigation.

C. Requirements for Any Member of the Makah Indian Tribe Engaged in Subsistence Uses

Notwithstanding Section A, any member of the Makah Indian Tribe who already may take a marine mammal under the Endangered Species Act and the Marine Mammal Protection Act is hereby granted a general permit to transport for the purpose of disposal and dispose of marine mammal carcasses in ocean waters subject to the following conditions:

1. The permittee shall consult with and obtain written concurrence (via email or letter) from the EPA Region 10 Office on ocean disposal site selection. A disposal site must be at a location three miles seaward of the mean lower low water line (ordinary low water mark) along the coast or “closing lines” across river mouths and openings of bays as demarcated on nautical charts. Disposal sites in the ocean waters of Puget Sound are not subject to the distance-from-shore restrictions, however permittees would need to consult with and obtain concurrence from EPA Region 10 on selection of the site. The permittee may obtain concurrence via telephone from the EPA Region 10 Office provided that the permittee subsequently obtains written concurrence (via email or letter). Points of contact at the EPA are available at https://www.epa.gov/marine-protection-permitting/ocean-disposal-marine-mammal-and-sea-turtle-carcasses.

2. If a determination is made that the carcass must be sunk, rather than released at the disposal site, the transportation and disposal of materials necessary to ensure the sinking of the carcass are also authorized for ocean dumping under this general permit. When materials are to be used to sink the carcass, the permittee must first consult with and obtain written concurrence (via email or letter) from the EPA Region 10 Office on the selection of materials. Any materials described in 40 CFR 227.5 (prohibited materials) or 40 CFR 227.6 (constituents prohibited as other than trace amounts) shall not be used. The transportation and dumping of any materials other than the materials necessary to ensure the sinking of the carcass are not authorized under this general permit and constitute a violation of the MPRSA. The permittee may obtain concurrence via telephone from the EPA Region 10 Office provided that the permittee subsequently obtains written concurrence (via email or letter).

3. The permittee shall submit a report on the ocean disposal activities authorized by this general permit to the EPA Region 10 Office within 30 days after carcass disposal. This report shall include:

a. A description of the carcass(es) disposed (e.g., species, approximate length, general condition, floating or not);

b. The date and time of the disposal, the latitude and longitude of the ocean disposal site, and the geodetic datum associated with the coordinates of the disposal site. Latitude and longitude of the disposal site shall be reported at the highest degree of accuracy available on board the vessel that transported the carcass (e.g., onboard geographic position system technology);

c. The name, title, affiliation, and contact information of the person in charge of the disposal operation and the person in charge of the vessel or vehicle that transported the carcass (if different than the person in charge of the disposal); and

d. A statement of need and rationale for selecting ocean disposal rather than other disposal options.

4. The permittee shall immediately notify the EPA of any violation of any condition of this general permit.

5. Additional permit conditions as required by the Port Gamble S'Klallam Tribe's Clean Water Act Section 401 certification for transportation and disposal of marine mammal and sea turtle carcasses waters within the boundaries of the Port Gamble S'Klallam Reservation and trust lands:

a. Entities covered under this general permit shall use best management practices for sediment and turbidity control.

b. No discharge covered under the general permit shall cause exceedances of port Gamble S'Klallam Surface Water Quality Standards narrative or number criteria.

c. No carcasses shall be disposed of near shellfish beds used by Tribal fishers.

d. No activities under this general permit may negatively impact Tribal resources.

e. The Natural Resources Department shall be notified within 24 hours of any accidents, equipment failures, or unexpected impacts resulting from activities associated with this general permit.

[FR Doc. 2025-13268 Filed 7-15-25; 8:45 am]

BILLING CODE 6560-50-P